DEPARTMENT OF THE INTERIOR

Office of the Secretary

Proposed Appointment of Nelson W. Westrin to the National Indian Gaming Commission

AGENCY: Office of the Secretary, Interior.

ACTION: Notice.

SUMMARY: The Indian Regulatory Act provides for a three-person National Indian Gaming Commission. One member, the chairman, is appointed by the President with the advice and consent of the Senate. Two associate members are appointed by the Secretary of the Interior. Before appointing members, the Secretary is required to provide the public notice of a proposed appointment and allow for a comment period. Notice is hereby given of the proposed appointment of Nelson W. Westrin as an associate member of the National Indian Gaming Commission.

DATES: Comments must be received before or on October 4, 2002.

ADDRESSES: Submit comments to the Director, Office of Executive Secretariat, United States Department of the Interior, 1849 C Street, NW, Mail Stop 7229, Washington, DC 20240.

FOR FURTHER INFORMATION CONTACT: Robert Moll, Assistant Solicitor, Division of General Law, Branch of General Legal Services, United States Department of the Interior, 1849 C Street, NW, Mail Stop 6531, Washington, DC 20240; telephone 202-208-5216.

SUPPLEMENTARY INFORMATION: The Indian Gaming Regulatory Act, 25 U.S.C. 2701 et seq., establishes the National Indian Gaming Commission (Commission), composed of three full-time members; a chairman and associate members. 25 U.S.C . 2704(b). Commission members serve for a term of 3 years. 25 U.S.C. 2704(b)(2)(4)(A). The chairman is appointed by the President with the advice and consent of the Senate. 25 U.S.C. 2704(b)(1)(A). The two associate members are appointed by the Secretary of the Interior. 25 U.S.C. 2704(b)(1)(B). Before appointing an associate member to the Commission, the Secretary is required to “publish in the Federal Register the name and other information the Secretary deems pertinent regarding a nominee for membership on the Commission and * * * allow a period of not less than thirty days for receipt of public comment.” 25 U.S.C. 2704(b)(2)(B). Notice is hereby given of the proposed appointment of Nelson W. Westrin as an associate member of the Commission for a term of three years.

Nelson W. Westrin is well qualified to serve as a member of the Commission. He has served as the first Executive Director of the Michigan Gaming Control Board since 1996, a position to which he was appointed by Governor John M. Engler. In this position, Mr. Westrin was responsible for developing, implementing, organizing, and managing every facet of the State agency. He worked closely with tribal officials while carrying out the State's oversight of Native American casino gaming operations in Michigan. From 1993 to 1997, Mr. Westrin served as the Racing Commissioner for the State of Michigan. Mr. Westrin was the Assistant Attorney General for the State of Michigan from 1977 to 1993, and from 1984 to 1993 he was assigned to the Lottery and Racing Division. Between 1974 and 1977, Mr. Westrin served as the Assistant Prosecuting Attorney for Ingham County, Michigan.

Mr. Westrin received his Bachelor of Arts degree from Michigan State University in 1969. He holds a Juris Doctor from the Detroit College of Law, which was awarded in 1974.

Nelson W. Westrin does not appear to have any financial interests that would make him ineligible to serve on the Commission under 25 U.S.C. 2704(b)(5)(B).

Any person wishing to submit comments on this proposed appointment may submit written comments to the address listed above. Comments must be received by October 4, 2002.

Dated: August 28, 2002.
Roderick Walston,
Deputy Solicitor.

[FR Doc. 02-22413 Filed 9-3-02; 8:45 am]

BILLING CODE 7565-01-M